DEPARTMENT OF TRANSPORTATION

Federal Aviation Administration

Notice of Passenger Facility Charge (PFC) Approvals and Disapprovals

AGENCY: Federal Aviation Administration (FAA), DOT.

ACTION: Monthly Notice of PFC Approvals and Disapprovals. In April 2001, there were eight applications approved. This notice also includes information on one application, approved in March 2001, inadvertently left off the March 2001 notice. Additionally, 29 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Application Approved

Public Agency: Dallas/Fort Worth Airport Board, Dallas/Fort Worth, Texas.

Application Number: 01-05-C-00-DFW.

Application Type: Impose and use a PFC.

PFC Level: $3.00.

Total PFC Revenue Approved in This Decision: $1,681,378,893.

Earliest Charge Effective Date: April 1, 2001.

Estimated Charge Expiration Date: December 1, 2013.

Class of Air Carriers Not Required to Collect PFC's: Part 135 air taxi/commercial operators (charter operators).

Determination: Approved. Based on information submitted in the public agency's application, the FAA has determined that the proposed class accounts for less than 1 percent of the total annual enplanements at Dallas/Forth Worth International Airport.

Brief Description of Projects Approved for Collection and Use:

Elevate service roads between terminals C and D.

Install 12 precision approach path indicators.

Upgrade 5W cargo road and cross-under.

Expand terminal B (international area).

Brief Description of Projects Approved in Part for Collection and Use: Construct automated people mover and associated development.

Determination: Approved in part. The operations, maintenance, and sotrage facility is generally ineligible under paragraphs 301 and 501, as well as Appendix 2, of FAA Order 5100.38A, Airport Improvement Program (AIP) Handbook (October 24, 1989), with the exception of the equipment needed to provide operational control of the “opening day” system. Therefore, the use of PFC revenue for the following elements of the maintenance facility, at a minimum, are not eligible: Spare parts or spare equipment, any equipment required to perform any maintenance, whether that maintenance be on vehicles, structural elements, operations systems, or other components, administrative offices, any build-up of operational equipment in order to accommodate future expansion of the system; and the guideway and associated infrastructure necessary to access the maintenance facility.

Upgrade airport directional signage.

Determination: Partially approved. The FAA has determined that the 86 percent of the planned signage is eligible for PFC funding. The project scope includes 20 signs adjacent to State, Federal, or Interstate highways as well as signs in revenue producing areas which were determined to be ineligible for PFC funding.

Brief Description of Disapproved Project:

Construct 5W deicing ground service equipment facility.

Determination: Disapproved. Storage facilities for aircraft deicing equipment and fluids are not AIP eligible under 49 U.S.C. 47102(3)(B)(v) or 47102(G). Therefore, this project is not PFC eligible under § 158.15(h)(1).

Brief Description of Projects Withdrawn:

Upgrade airport-wide fueling system.

Widen 35L/35C aircraft rescue and firefighting (ARFF) road.

Construct DPS service center.

Construct environmental material handling facility.

Upgrade terminal circulation roads.

Acquire compressed natural gas buses.

Determination: These projects were withdrawn by the public agency by letter dated March 19, 2001. Therefore, the FAA did not rule on these projects in this decision.

Decision Date: March 29, 2001.

For Further Information Contact: G. Thomas Wade, Southwest Region Airports Division, (817) 222-5613.

Public Agency: Burbank-Glendale-Pasadena Airport Authority, Burbank, California.

Application Number: 00-04-C-00-BUR.

Application Type: Impose and use a PFC.

PFC Level: $3.00.

Total PFC Revenue Approved in This Decision: $73,699,087.

Earliest Charge Effective Date: June 1, 2010.

Estimated Charge Expiration Date: April 1, 2021.

Class of Air Carriers Not Required to Collect PFC's: All air taxi/commercial operators filing or required to file FAA Form 1800-31.

Determination: Approved. Based on information submitted in the public agency's application, the FAA has determined that the proposed class accounts for less than 1 percent of the total annual enplanements at Burbank-Glendale-Pasadena Airport.

Brief Description of Projects Approved for Collection and Use:

Temporary ARFF station.

Modular ARFF station.

Gates B4 and B5 hardstand work.

ARFF equipment.

Gate B2 hardstand.

Airfield signage.

ARFF station ramp.

Sealcoat and stripe taxiways B and D.

Gate B5 paving.

Tie-in C-6 paving.

B ramp hardstand and striping.

Taxilane centerline lighting.

Restripe east ramp.

Intersection marking change.

Hardstand extension at gate A4.

East ramp hardstands.

Airfield distance remaining signs.

Aircraft holding pad, runway 15 center reconstruction, airfield signage, and taxiway lighting.

Taxiway B lights, airfield signage, taxiway A, B, C, and taxilane rehabilitation, and runway 8/26 blast fence extension.

ARFF equipment.

Access controls.

Runway 33 rehabilitation.

Roadway signage.

Terminal road restriping.

Avenue B repairs.

Terminal entrance road repairs.

Noise monitoring equipment.

Part 150 update.

East concourse modifications.

1000 KV generator.

Modification to holdrooms 1, 2, 3, and 4.

Americans with Disabilities Act access.

Holdrooms 5, 6, and 7 modifications.

Terminal A baggage claim modifications.

Building 10 seismic retrofit.

Terminal B restrooms.

Terminal B sewer.

Home acoustical treatment in original Part 150 program.

Luther Burbank School acoustical treatment.

Glenwood School acoustical treatment.

Mingay School acoustical treatment.

St. Patrick's School acoustical treatment.

Additional residences for acoustical treatment.

Additional schools for acoustical treatment.

Brief Description of Disapproved Projects:

Arvilla Street and San Fernando Road Improvements.

Determination: Disapproved. This project is not eligible in accordance with paragraph 553a of FAA Order 5100.38A, AIP Handbook (October 24, 1989). Therefore, this project does not meet the requirements of § 158.15(b)(1).

Americans with Disabilities Act (ADA) access.

Determination: Disapproved. The proposed elevator serves exclusive airport offices and leased airlines offices only and does not aid in the movement of passengers and baggage within the airport. Therefore, in accordance with Program Guidance Letter 93-3.5, this project is not AIP eligible and does not meet the requirements of § 158.15(b)(1).

Decision date: April 2, 2001.

For Further Information Contact: Ruben Cabalbag, Western Pacific Region Airports Division, (310) 725-3630.

Public Agency: State of Connecticut, Department of Transportation, Bureau of Aviation and Ports, Windsor Locks, Connecticut.

Application Number: 01-13-U-00-BDL.

Application Type: Use PFC revenue.

PFC Level: $3.00.

Total PFC Revenue to be Used in This Decision: $4,400,000.

Charge Effective Date: November 1, 1999.

Estimated Charge Expiration Date: June 1, 2000.

Class of Air Carriers Not Required to Collect PFC's: No charge from previous decision.

Brief Description of Project Approved for Use:

Reconstruction of the east end of taxiway S.

Decision Date: April 2, 2001.

For Further Information Contact: Priscilla A. Scott, New England region Airports Division, (781) 238-7614.

Public Agency: City of Eugene, Oregon.

Application Number: 01-04-C-00-EUG.

Application Type: Impose and use a PFC.

PFC Level: $4.50.

Total PFC Revenue Approved in This Decision: $3,155,267.

Earliest Charge Effective Date: June 1, 2001.

Estimated Charge Expiration Date: June 1, 2003.

Classes of Air Carriers Not Required to Collect PFC's:

(1) Operations by air taxi/commercial operators utilizing aircraft having a maximum seating capacity of less than 20 passengers when enplaning revenue passengers in a limited, irregular/non-scheduled, or special service manner; (2) operations by air taxi/commercial operators, without regard to seating capacity, for revenue passengers transported for student instruction, non-stop sightseeing flights that begin and end at Eugene Airport, Mahlon Sweet Field and are conducted within a 25-mile radius of the same airport, firefighting charters, ferry or training flights, air ambulance/medivac flights, and aerial photography or survey flights.

Determination: Approved. Based on information submitted in the public agency's application, the FAA has determined that each proposed class accounts for less than 1 percent of the total annual enplanements at Eugene Airport, Mahlon Sweet Field.

Brief Description of Projects Approved for Collection and Use:

Runway 3/21 safety improvements.

Taxiway extension and ramp construction.

Terminal improvements.

B gate south ramp reconstruction.

Ramp pavement rehabilitation.

Jet bridge acquisition.

Brief Description of Project Withdrawn:

Land acquisition.

Determination: This project was withdrawn by the public agency by letter dated March 30, 2001. Therefore, the FAA did not rule on this project in this decision.

Decision Date: April 5, 2001.

For Further Information Contact: Suzanne Lee-Pang, Seattle Airports District Office, (425) 227-2654.

Public Agency: City of Chicago, Department of Aviation, Chicago, Illinois.

Application Number: 01-12-C-00-ORD.

Application Type: Impose and use a PFC.

PFC Level: $4.50.

Total PFC Revenue Approved in This Decision: $1,486,284,358.

Earliest Charge Effective Date: May 1, 2008.

Estimated Charge Expiration Date: April 1, 2016.

Class of Air Carriers not Required to Collect PFC's: Air taxi.

Determination: Approved. Based on information submitted in the public agency's application, the FAA has determined that the proposed class accounts for less than 1 percent of the total annual enplanements at Chicago O'Hare International Airport (ORD).

Brief Description of Projects Approved for Collection at ORD and use at ORD at a $4.50 PFC Level:

ARFF/simulator training facility.

Runway deicing fluid facility improvements.

Runway weather sensors upgrade.

Service road to general aviation apron.

Land and hold short operations improvements.

School insulation—1999-2001.

Residential insulation—2000.

Residential insulation—2001.

Shoulder rehabilitation—runways 4R/22L and 9L/27R.

Cargo tunnel structural repairs.

Interactive computer training system.

Explosive blast mitigation—glass coating.

Small basin storm water quality.

Runway 14R/32L rehabilitation.

Taxiway T extension rehabilitation.

Taxiway W rehabilitation.

General aviation pavement rehabilitation.

Acquisition of 1998 security and fire equipment.

Blast mitigation—phase II.

Lake O'Hare capacity enhancement.

Runway 9L/27R rehabilitation.

Perimeter intrusion detection system.

Taxiway B rehabilitation at Concourse 3/Concourse 5.

Snow dump improvements.

Runway 14L/32R rehabilitation.

Concourse F extension.

World Gateway Program formulation.

Brief Description of Projects Approved in Part for Collection at ORD and use at ORD at a $4.50 PFC Level:

Security checkpoint equipment.

Determination: Partially approved. Explosive trace detection equipment has already been deployed to each checkpoint in sufficient number to meet current FAA regulations and operating procedures. Therefore, the explosive trace detection equipment element of this project is not approved.

Wetlands relocation.

Determination: Partially approved. The environmental assessment in support of this project included only the detailed analysis for filling 6.3 acres of wetlands in a portion of the runway protection zone and for remediating 24.08 acres of wetlands located in the southwest portion of ORD. The remaining wetlands have not been environmentally evaluated and thus the public agency cannot meet the requirement of § 158.25(c)(1)(ii)(B) for the remaining wetlands and that portion of the project is not approved.

Brief Description of Project Approved for Collection at ORD and Use at Chicago Midway Airport at a $4.50 PFC Level:

Home soundproofing.

Brief Description of Projects Approved for Collection at ORD for Future Use at ORD at a $4.50 PFC Level:

Concourse K extension.

Taxiway A/B extension/oil separators relocation.

Hardstand apron.

Terminal 6 development.

Terminal 1/Terminal 2 connection expansion.

Concourse L extension.

Runway 18/36 rehabilitation.

Brief Description of Project Approved in Part For Collection at ORD for Future Use at ORD at a $4.50 PFC Level:

Airport Transit System (ATS) maintenance relocation.

Determination: Partially approved. This project meets the nominal requirements for AIP eligibility and, therefore, PFC eligibility under paragraph 594(a) of FAA Order 5100.38A, AIP Handbook (October 24, 1989) which provides for the relocation of a facility that impedes eligible development. However, maintenance facilities are eligible only in so far as they provide maintenance for eligible safety and security equipment per paragraph 567(e)(1) of FAA Order 5100.38A. Therefore, the use of PFC revenue is limited to the cost to replace a like facility. Any expansion or upgrade would not be PFC eligible.

Brief Description of Projects Approved For Collection at ORD and Use at ORD at a $3.00 PFC Level:

Terminal 1, Terminal 2, Terminal 3 facade and circulation enhancement improvements.

Terminal 5 upper level roadway rehabilitation.

ATS remote parking lot station.

Purchase two new ATS cars.

Military site acquisition formulation.

Soil erosion and sedimentation control.

Terminal 3 ATS bridge.

Terminal 1 elevator expansion.

Upper level roadway deck rehabilitation.

ATS vehicles acquisition (3 cars).

ATS remote station escalator.

ATS MIRA computer replacement.

Bessie Coleman Drive rehabiliation—phase II.

Equipment service platforms at Heating and Refrigeration (H&R) plant.

H&R formulation.

Military site airside fencing.

ATS vehicles acquisition (12 cars).

Bessie Coleman bridge rehabilitation.

National Pollution Discharge Elimination System permit compliance.

Brief Description of Projects Approved in Part for Collection at ORD and Use at ORD at a $3.00 PFC Level:

Snow/security/fire miscellaneous equipment.

Determination: partially approved. This project included 11 components of which four were determined to be ineligible for AIP and, therefor, PFC funding. The four disapproved components and the reason for each disapproval are: Four pickup truck small salters (these units are not used on runways, taxiways, aprons, or gate areas as required in order to be eligible under AIP criteria); one fire step van (this unit is not required by Part 139 to meet ARFF requirements); three ambulance trucks (these units are not required by Part 139 to meet ARFF requirements); and two portable stairway trucks (these units are not required by Part 139 to meet ARFF requirements).

Oil separators 1, 2, and 3 rehabilitation.

Determination: Partially approved. Any general maintenance, such as the repair to lake erosion, is not AIP eligible and, therefore, is not PFC eligible.

Concession area public space buildout.

Determination: Partially approved. The FAA has determined that a portion of this project is for the benefit of the food court and other revenue producing vendors. Therefore, even though the public agency identifies these areas as public seating and for public use, the FAA has concluded that the seating areas proposed for the E/F apex, H/K apex, and Rotunda are not AIP or PFC eligible. However, in addition to the seating areas, the public agency proposes circulation improvements intended to improve the efficiency of passenger movements between and among terminals and concourses as well as provide access to restroom facilities. The public agency estimates that the circulation portion of the project has been reduced by the final design of the various areas to the point that the PFC portion of the project is approximately 32 percent of the total. Furthermore, the FAA's analysis concluded that the Concourse B food court does not provide additional public circulation and is primarily for the benefit of the vendor area. Thus, the Concourse B area is completely ineligible. In addition, since the public agency listed the Concourse H and K food courts separately from the H/K apek, the FAA assumes these are separate areas. However, because the public agency did not provide any plans, sketches, or additional information regarding these food courts, the FAA was unable to determine if any portion of those areas was eligible. Therefore, PFC funds cannot be used to fund any improvements in the H and K food courts.

Airport maintenance complex addition.

Determination: Partially approved. This project is generally eligible under AIP criteria, paragraphs 567(d) and 568 of FAA Order 5100.38A, AIP Handbook (October 24, 1989). However, to the extent a building houses both eligible and ineligible equipment, the eligible cost of the building and utilities for the building must be a prorated share of the total project cost, under paragraph 568 of FAA Order 5100.38A.

Landside formulation.

Determination: Partially approved. Elements of work not specifically identified in the public agency's PFC Attachment B's for this project are not included in this approval. Furthermore, to the element that any of the elements listed involve ineligible (off-airport) work, the costs of planning, study, assessment, and design attributable to the off-airport portion of the project is not PFC eligible.

High temperature water piping: elimination of ball joints.

Determination: Partially approved. This project is generally eligible under AIP criteria, paragraph 568 of FAA Order 5100.38A, AIP Handbook (October 24, 1989). However, to the extent the high temperature water piping serves both eligible and ineligible buildings and/or spaces, the eligible cost of utilities for the airport must be a prorated share of the total project cost.

Brief Description of Projects Approved for Collection at ORD and Use at Gary/Chicago Airport (GYY) at a $3.00 PFC Level:

Acquisition of a 1500-gallon ARFF vehicle.

Terminal renovation—phase III.

Apron deicing facility.

East T-Hangar area site work.

Perimeter fencing.

Terminal renovations program.

Automated weather observation system.

General aviation apron overlay/expansion.

Phase II airport master plan.

Terminal apron expansion.

Snow removal equipment.

Acquire 1500-gallon ARFF vehicle.

Terminal renovation—phase II.

Brief Description of Projects Approved for Collection at ORD for Future Use at ORD at a $3.00 PFC Level:

Relocated Northwest Tollway connection

Balmoral Drive extension.

I-190 Collector/distributor.

ATS station at rental car campus.

ATS north extension.

Touch Avenue Reservoir.

Brief Description of Projects Approved in Part for Collection at ORD for Future Use at ORD at a $3.00 PFC Level:

Concourse C upgrade.

Determination: Partially approved. Some elements of this project may meet the nominal requirements for AIP eligibility, and therefore, PFC eligibility under paragraph 551 of FAA order 5100.38A, AIP Handbook (October 24, 1989). However, the FAA has determined that the public agency did not provide sufficient description or justification concerning the majority of the proposed elements to allow a determination of nominal eligibility for those elements. The FAA was able to conclude that the restroom work, insofar as this work is needed to comply with ADA requirements, is eligible. The information provided on the remaining tasks in this project did not allow the FAA to conclude that the remainder of this project involved eligible reconstruction/repair rather than ineligible maintenance work (paragraph 501 of FAA Order 5100.38A).

Concourse B upgrade.

Determination: partially approved. Some elements of this project may meet the nominal requirements for AIP eligibility, and, therefore, PFC eligibility under paragraph 551 of FAA Order 5100.38A, AIP Handbook (October 24, 1989). However, the FAA has determined that the public agency did not provide sufficient description or justification concerning the majority of the proposed elements to allow a determination of nominal eligibility for those elements. The FAA was able to conclude that the restroom work, insofar as this work is needed to comply with ADA requirements, in eligible. The information provided on the remaining tasks in this project did not allow the FAA to conclude that the remainder of this project involved eligible reconstruction/repair rather than ineligible maintenance work (paragraph 501 of FAA Order 5100.38A).

Concourse L upgrade.

Determination: Partially approved. Some elements of this project may meet the nominal requirements for AIP eligibility, and therefore, PFC eligibility under paragraph 551 of FAA Order 5100.38A, AIP Handbook (October 24, 1989). However, the FAA has determined that the public agency did not provide sufficient description or justification concerning the majority of the proposed elements to allow a determination of nominal eligibility for those elements. The FAA was able to conclude that the restroom work, insofar as this work is needed to comply with ADA requirements, is eligible. The information provided on the remaining tasks in this project did not allow the FAA to conclude that the remainder of this project involved eligible reconstruction/repair rather than ineligible maintenance work (paragraph 501 of FAA Order 5100.38A).

Concourse K upgrade.

Determination: Partially approved. Some elements of this project may meet the nominal requirements for AIP eligibility, and therefore, PFC eligibility under paragraph 551 of FAA Order 5100.38A, AIP Handbook (October 24, 1989). However, the FAA has determined that the public agency did not provide sufficient description or justification concerning the majority of the proposed elements to allow a determination of nominal eligibility for those elements. The FAA was able to conclude that the restroom work, insofar as this work is needed to comply with ADA requirements, is eligible. The information provided on the remaining tasks in this project did not allow the FAA to conclude that the remainder of this project involved eligible reconstruction/repair rather than ineligible maintenance work (paragraph 501 of FAA Order 5100.38A).

Concourse H upgrade.

Determination: Partially approved. Some elements of this project may meet the nominal requirements for AIP eligibility, and therefore, PFC eligibility under paragraph 551 of FAA Order 5100.38A, AIP Handbook (October 24, 1989). However, the FAA has determined that the public agency did not provide sufficient description or justification concerning the majority of the proposed elements to allow a determination of nominal eligibility for those elements. The FAA was able to conclude that the restroom work, insofar as this work is needed to comply with ADA requirements, is eligible. The information provided on the remaining tasks in this project did not allow the FAA to conclude that the remainder of this project involved eligible reconstruction/repair rather than ineligible maintenance work (paragraph 501 of FAA Order 5100.38A).

New police facility.

Determination: Partially approved. The FAA has determined that not all activities at the Police Facility support Part 107 functions. The Federal Security Manager for ORD has determined that approximately 80 percent of the facility will support Part 107 activities and, thus, this approval is limited to that 80 percent of the facility which is eligible.

Brief Description of Withdrawn Project:

Airside perimeter road rehabilitation/construction

Determination: this project was withdrawn by the public agency by letter dated January 4, 2001. Therefore, the FAA did not rule on this project in this decision.

Brief Description of Disapproved Projects:

Automated vehicle identification—ground transportation.

Determination: Disapproved. The FAA has determined that this project provides a system for controlling commercial vehicles (taxis and limousines) and charging them for the Metropolitan Pier and Exposition Authority commercial vehicle tax. The FAA has determined that the collection of a local vehicle tax does not preserve or enhance capacity, safety, or security, furnish opportunities for enhanced competition between or among air carriers, or mitigate noise impacts resulting from aircraft operations at ORD. Therefore, this project does not meet the requirements of § 158.15(a).

Perimeter intrusion detection system—phase II.

Determination: Disapproved. The FAA's Federal Security Manager for ORD has reviewed the proposed project and has determined that the existing 10-foot fence with outriggers and barbed wire, when combined with periodic patrols, meets the requirements of part 107. Therefore, this project is not required to meet part 107, does not meet the requirements of § 158.15(b)(1), and is not PFC eligible.

360 degree Silicon Graphics Incorporated based tower simulator.

Determination: Disapproved. Training programs for air traffic controllers are not airport development as defined by AIP criteria. In addition, the development of new flight patterns or procedures is not AIP eligible. Therefore, this project does not meet the requirements of § 158.15(b)(1).

Zemke road extension.

Determination: Disapproved. The FAA has determined that the scope of the project describes a roadway that will be utilized for access to the soon-to-be-built United Airlines corporate headquarters building, a non-aeronautical facility. As presently depicted, this road does not exclusively serve airport traffic as is required by paragraph 553(a)(3) of FAA Order 5100.38A, AIP Handbook (October 24, 1989). therefore, this project does not meet the requirements of § 158.15(b)(1).

Decision Date: April 16, 2001.

For Further Information Contact: Thomas E. Salaman, Chicago Airports District Office, (847) 294-7436.

Public Agency: City of San Jose, California.

Application Number: 01-10-C-00-SJC.

Application Type: Impose and use a PFC.

PFC Level: $4.50.

Total PFC Revenue Approved in this Decision: $93,956,000.

Earliest Charge Effective Date: January 1, 2005.

Estimated Charge Expiration Date: January 1, 2009.

Class of Air Carriers Not Required to Collect PFC'S: Air taxi/commercial operators filing FAA Form 1800-31.

Determination: Approved. Based on information submitted in the public agency's application, the FAA has determined that the proposed class accounts for less than 1 percent of the total annual enplanements at San Jose International Airport.

Brief Description of Projects Approved for Collection and Use at a $4.50 PFC Level:

Runway 30R reconstruction and extension.

Noise attenuation within the Category II and III eligibility areas.

Taxiway Y extension.

Decision Date: April 20, 2001.

For Further Information Contact: Marlys Vandervelde, San Francisco Airports District Office, (650) 876-2806.

Public Agency: Broward County Aviation Department, Fort Lauderdale, Florida.

Application Number: 01-04-C-00-FLL.

Application Type: Impose and use a PFC.

PFC Level: $3.00.

Total PFC Revenue Approved in this Decision: $34,202,199.

Earliest Charge Effective Date: March 1, 2009.

Estimated Charge Expiration Date: June 1, 2010.

Class of Air Carriers Not Required to Collect PFC'S: Air taxi/commercial operators filing FAA Form 1800-31.

Determination: Approved. Based on information submitted in the public agency's application, the FAA has determined that the proposed class accounts for less than 1 percent of the total annual enplanements at Fort Lauderdale-Hollywood International Airport.

Brief Description of Project Approved for Use:

Aviation easements.

Brief Description of Projects Approved for Collection and Use:

Common use terminal equipment.

Fiber optic backbone.

Concourse E, F, and H restrooms.

Pedestrian walkways.

Pedestrian canopies.

Curbside queuing lanes.

Commuter facility improvements.

Westside road relocation.

Inner terminal taxilanes—design.

Inner terminal taxilanes—construction.

Passenger loading bridge utilities infrastructure.

Taxiway B extension.

Brief Description of Project Approved in Part for Collection and Use:

Communications center equipment.

Determination: Partially approved. The FAA has determined that approximately 12.5 percent of the project is eligible. Eligible portions include the ARFF radio frequency, part 107 required security communications equipment, and approximately 425 square feet of floor space that would be utilized as the emergency operations center. Ineligible portions of the facility include areas and communications equipment that support airport operational functions not required by parts 139 and 107.

Decision Date: April 23, 2001.

For Further Information Contact: Susan Moore, Orlando Airports District Office, (407) 812-6331, extension 20.

Public Agency: Jackson County, Medford, Oregon.

Application Number: 01-06-C-00-MFR.

Application Type: Impose and use a PFC.

PFC Level: $4.50.

Total PFC Revenue Approved in This Decision: $271,648.

Earliest Charge Effective Date: February 1, 2003.

Estimated Charge Expiration Date: June 1, 2003.

Class of Air Carriers Not Required To Collect PFC's: Operations by air taxi/commercial operators when enplaning revenue passengers in limited, irregular, special service air taxi/commercial operations such as air ambulance services, student instruction, non-stop sightseeing flights that begin and end at the airport and are concluded within a 25-mile radius of the airport and other similar limited, irregular, special service operations by such air taxi/commercial operators.

Determination: Approved. Based on information submitted in the public agency's application, the FAA has determined that the proposed class accounts for less than 1 percent of the total annual enplanements at Rogue Valley International—Medford Airport.

Brief Description of Projects Approved for Collection and Use:

Parallel taxiway extension.

High intensity runway lighting replacement.

Decision Date: April 27, 2001.

For Further Information Contact: Suzanne Lee-Pang, Seattle Airports District Office, (425) 227-2654.

Public Agency: Salt Lake City Corporation, Department of Airports, Salt Lake City, Utah.

Application Number: 01-03-C-00-SLC.

Application Type: Impose and use a PFC.

PFC Level: $4.50.

Total PFC Revenue Approved in This Decision: $27,852,072.

Earliest Charge Effective Date: July 1, 2001.

Estimated Charge Expiration Date: May 2, 2002.

Class of Air Carriers Not Required To Collect PFC's: All air taxi/commercial operators filing or required to file FAA Form 1800-31.

Determination: Approved. Based on information submitted in the public agency's application, the FAA has determined that the proposed class accounts for less than 1 percent of the total annual enplanements at Salt Lake City International Airport (SLC).

Brief Description of Projects Approved for Collection at SLC and Use at SLC at a $4.50 PFC Level:

Taxiway M (now H) reconstruction.

Cargo apron bypass.

South cargo apron expansion.

Taxiway S reconstruction.

Cargo site development and computer access security system (CASS).

Airfield bird habitat management—phase I.

Airfield bird habitat management—phase II.

Airfield bird habitat management—phase III.

Security access system (CASS).

CASS system expansion and upgrade.

Perimeter security fencing upgrade—phase I.

Perimeter security fencing upgrade—phase II.

Modify elevated runway guard lights, and install precision approach path indicators and runway end identifier lights.

Automated exit land at screening checkpoints.

Runway guard lights upgrade—phase II.

Deicing drainage improvements.

North cargo taxilane extension.

Taxiway H reconstruction—phase II.

Runway 16L pavement end and taxiway H reconstruction.

Acquisition of 3.83 acres in the vicinity of 2200 North.

Site preparation for new apron paving.

West apron paving and lighting—phase I.

West apron drainage.

East apron drainage.

West apron paving—phase II.

Brief Description of Project Approved in Part for Collection at SLC and Use at SLC at a $4.50 PFC Level:

Closed circuit television system modifications and upgrade.

Determination: Partially approved. The FAA's Civil Aviation Security Field Office has determined that the cameras proposed to be located in the rental car facilities are not required to meet the requirements of part 107. Therefore, those cameras are not AIP or PFC eligible.

Brief Description of Projects Approved for Collection at SLC and Use at SLC at a $3.00 PFC Level:

Airfield emergency access road and snow storage.

Improve airport access road (2200 North) for capacity enhancement program.

East apron overlay and reconstruction—phase I.

Airfield lighting control system and communications equipment relocation.

East side deicing.

Fore station 11 relocation.

Constant current regulators and circuit modifications.

Brief Description of Project Approved in Part for Collection at SLC and Use at SLC at a $3.00 PFC Level:

Electrical vault modifications.

Determination: Partially approved. The second floor of the building, as described by the public enemy, does not contain eligible facilities and thus is not eligible for PFC financing. The FAA estimates the cost of the second floor to be 50 percent of the total project cost.

Brief Description of Project Approved for Collection at SLC and Use at Tooele Valley Airport at a $3.00 PFC Level:

Wildlife fence.

Brief Description of Disapproved Project: Category III and approach lighting system with sequence flashers—II, runway 16R (now runway 16L).

Determination: Disapproved. The FAA has determined that if a notice to proceed or start of physical construction for a proposed PFC project occurred prior to November 5, 1990 (the date the PFC statute was enacted), the project is not PFC eligible under § 158.3. This is because implementation of a construction project occurs when the notice to proceed is issued or physical construction is begun, whichever is first. The notice to proceed for this project was issued October 22, 1990. Therefore, this project is not eligible to receive PFC funding at any PFC level.

Decision Date: April 30, 2001.

For Further Information Contact: Christopher J. Schaffer, Denver Airports District Office, (303) 342-1258.

Amendments to PFC Approvals
Amendment No. City, State | Amendment Approved Date | Original Approved Net PFC Revenue | Amended Approved Net PFC Revenue | Original Estimated Charge Exp. Date | Amended Estimated Charge Exp. Date
94-01-C-04-FLL, Fort Lauderdale, FL | 01/31/01 | $52,777,754 | $46,592,957 | 09/01/98 | 09/01/98
98-02-C-02-FLL, Fort Lauderdale, FL | 01/31/01 | $191,105,272 | $183,627,920 | 11/01/07 | 01/01/07
92-01-C-08-SJC, San Jose, CA | 03/28/01 | $71,744,826 | $70,558,668 | 01/01/96 | 09/01/95
94-04-U-02-SJC, San Jose, CA | 03/28/01 | NA | NA | 01/01/96 | 09/01/95
95-05-C-01-SJC, San Jose, CA | 03/28/01 | $9,094,000 | $4,059,393 | 06/01/99 | 02/01/99
92-01-1-01-BUF, Buffalo, NY | 03/28/01 | $78,731,538 | $81,167,538 | 12/01/04 | 12/01/04
95-02-C-03-BUF, Buffalo, NY | 03/28/01 | $6,748,496 | $6,748,496 | 07/01/15 | 07/01/15
*00-04-C-01-VLD, Valdosta, GA | 03/30/01 | $230,300 | $230,300 | 06/01/01 | 09/01/01
97-03-C-05-DFW, Dallas/Fort Worth, TX | 03/30/01 | $261,050,427 | $121,412,427 | 04/01/01 | 02/01/00
93-01-C-01-CKB, Clarksburg, WV | 04/02/01 | $105,256 | $79,103 | 04/01/96 | 10/01/95
99-02-C-01-COD, Cody, WY | 04/13/01 | $219,000 | $219,000 | 07/01/02 | 03/01/02
*96-05-C-05-ORD, Chicago, IL | 04/16/01 | $456,884,197 | $451,595,749 | 11/01/11 | 04/01/08
*98-07-C-01-ORD, Chicago IL | 04/16/01 | $61,717,809 | $52,903,281 | 08/01/12 | 06/01/08
*98-03-C-01-HDN, Hayden, CO | 04/18/01 | $1,130,176 | $1,130,176 | 12/01/02 | 06/01/02
93-01-C-03-GEG, Spokane, WA | 04/18/01 | $12,676,598 | $12,594,838 | 04/01/98 | 04/01/98
98-03-C-03-BGM, Binghamton, NY | 04/20/01 | $1,811,886 | $611,886 | 04/01/06 | 10/01/03
94-04-C-02-CHO, Charlottesville, VA | 04/23/01 | $120,649 | $117,084 | 10/01/93 | 10/01/93
95-07-1-03-CHO, Charlottesville, VA | 04/23/01 | $57,471 | $59,785 | 09/01/00 | 09/01/00
97-10-C-02-CHO, Charlottesville, VA | 04/23/01 | $1,033,600 | $1,027,904 | 12/01/03 | 12/01/03
*00-02-C-01-PIA, Peoria, IL | 04/24/01 | $5,776,324 | $5,776,324 | 09/01/09 | 02/01/07
*97-03-C-02-TOL, Toledo, OH | 04/24/01 | $5,550,400 | $5,500,400 | 08/01/04 | 12/01/03
*00-02-C-01-GTR, Columbus, MS | 04/25/01 | $223,321 | $222,321 | 06/01/08 | 08/01/05
92-01-C-04-MHT, Manchester, NH | 04/25/01 | $2,994,523 | $3,148,067 | 10/01/98 | 10/01/98
98-06-U-01-MHT, Manchester, NH | 04/25/01 | NA | NA | 10/01/98 | 10/01/98
97-05-C-01-MHT, Manchester, NH | 04/27/01 | $2,331,162 | $2,386,396 | 10/01/98 | 10/01/98
96-03-C-01-SJU, San Juan, PR | 04/27/01 | $73,424,050 | $68,223,897 | 11/01/02 | 04/01/02
97-10-C-03-CHO, Charlottesville, VA | 04/30/01 | $1,027,904 | $897,404 | 12/01/03 | 09/01/03
99-13-U-01-CHO, Charlottesville, VA | 04/30/01 | NA | NA | 12/01/03 | 09/01/03
*93-01-C-06-LEX, Lexington, KY | 05/01/01 | $15,185,918 | $15,185,918 | 09/01/05 | 06/01/03
Note: The amendments denoted by an asterisk (*) include a change to the PFC level charged from $3.00 per enplaned passenger to $4,50 per enplaned passenger, For Valdosta, Georgia and Lexington KY, this change is effective on June 1, 2001. For Hayden, CO, Peoria, IL, and Toledo, OH, this change is effective on July 1, 2001. Chicago, IL and Columbus, MS began collecting at a $4.50 level of April 1, 2001; the two amendments for Chicago and one amendment for Comumbus listed continue $4.50 collections beyond the original approved charge expiration date.)

Issued in Washington, DC, on June 6, 1996.
Eric Gabler,
Manager, Passenger Facility Charge Branch.

[FR Doc. 01-14908 Filed 6-12-01; 8:45 am]

BILLING CODE 4910-13-M